ENVIRONMENTAL PROTECTION AGENCY

[ER-FRL-8988-5]

Environmental Impacts Statements; Notice of Availability

Responsible Agency: Office of Federal Activities, General Information (202) 564-1399 or http://www.epa.gov/compliance/nepa/.

Weekly receipt of Environmental Impact Statements Filed 02/23/2010 Through 02/23/2010 Pursuant to 40 CFR 1506.9;

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100057, Final EIS, NHTSA, 00, Corporate Average Fuel Economy (CAFE) Standards Passenger Car and Light Trucks Model Years 2012-2016, To Reduce National Energy Consumption by Increasing the Fuel Economy of Passenger Car and Light Trucks sold in the United States, Implementation, Wait Period Ends: 04/01/2010, Contact: Angel Jackson 202-366-0154.

Dated: February 26, 2010.
Robert W. Hargrove,
Director, NEPA Compliance Division, Office of Federal Activities.

[FR Doc. 2010-4389 Filed 3-2-10; 8:45 am]

BILLING CODE 6560-50-P